NUCLEAR REGULATORY COMMISSION

[NRC-2011-0177; Docket No. 40-00235, License No. STB-0362 (Terminated)]

AAR Manufacturing, Inc.; Completion of Radiological Survey Activities at CSX Transportation Property Near Inkster Road in Livonia, MI

AGENCY: Nuclear Regulatory Commission.

ACTION: Notice of acceptability.

SUMMARY: The U.S. Nuclear Regulatory Commission (NRC) is noticing the acceptability for unrestricted use of the CSXT property near Inkster Road in Livonia, Michigan.

ADDRESSES: You can access publicly available documents related to this notice using the following methods:

• NRC's Public Document Room (PDR): The public may examine and have copied for a fee publicly available documents at the NRC's PDR, Room O1 F21, One White Flint North, 11555 Rockville Pike, Rockville, Maryland 20852.

• NRC's Agencywide Documents Access and Management System (ADAMS):

Publicly available documents created or received at the NRC are available electronically at the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

FOR FURTHER INFORMATION CONTACT: Duane Schmidt, Senior Health Physicist, FSME, Division of Waste Management and Environmental Protection, U.S. Nuclear Regulatory Commission, Washington, DC 20555-0001, telephone: 301-415-6919, e-mail: duane.schmidt@nrc.gov.

Background: The CSXT property located near Inkster Road is not subject to a license issued by the NRC. It consists of operating rail lines and associated right-of-way and is located to the west of Inkster Road in Livonia, Michigan. The parcel is adjacent to, and runs parallel to, the southern boundary of the AAR Manufacturing, Inc. (AAR) site. The AAR site was formerly owned by Brooks and Perkins, Inc. (B&P), a licensee of the NRC's predecessor agency, the U.S. Atomic Energy Commission (AEC). AEC Source Material License No. D-547 was issued to B&P on January 17, 1957, and was superseded by License STB-0362 on August 10, 1961. AEC terminated License STB-0362 on May 17, 1971. In 1981, AAR purchased B&P and obtained the property. In March 1994, the NRC informed AAR that radioactive thorium surface and subsurface contamination had been detected at several locations on the site and requested that AAR perform radiological surveys and remediation activities (ADAMS Accession No. ML110670259). The AAR site was added to the Site Decommissioning Management Plan list in August 1994.

In May 1997, NRC inspectors performed a limited radiation survey of the CSXT right-of-way adjacent to the AAR site. NRC staff provided the inspection report to CSXT in a June 12, 1997, letter; the report identified three locations with elevated levels of thorium in the soil (ADAMS Accession No. ML091000360). NRC staff considered the possibility that some residual radioactive material may have spread from the AAR site onto the CSXT property. In a September 8, 1997, letter, NRC requested that CSXT provide an accurate characterization of the property (ADAMS Accession No. ML101250613). CSXT submitted the report to NRC on September 13, 2000 (ADAMS Accession No. ML090680748). The CSXT conclusion in this report was that the dose modeling results demonstrate that no remedial actions or restrictions on site usage are required and that the total site dose does not exceed the 25 mrem/year NRC criteria for unrestricted release. NRC staff reviewed the CSXT report and concluded that the surveys and measurements were generally not consistent with NRC guidance. After evaluating the existing data for the CSXT property, the NRC staff decided to have the NRC independent survey contractor perform confirmatory surveys of the CSXT property.

Based on the survey and sampling results, as well as an all-pathways analysis of the potential doses to the public from the residual radioactivity at the site, it was determined that contamination on the CSXT property would result in doses well below NRC's criteria for unrestricted use. Therefore the NRC staff concludes that no further action is needed by CSXT. NRC will not require remediation activities at the site unless new information demonstrates that the criteria in 10 CFR Part 20, Subpart E, “Radiological Criteria for License Termination,” are not being met and residual radioactivity at the site could result in a significant threat to public health and safety. The NRC staff documented its review in a Safety Evaluation Report (SER) (ADAMS Accession No. ML111370451).

Dated at Rockville, Maryland this 28th day of July, 2011.
For the Nuclear Regulatory Commission.
Keith I. McConnell,
Deputy Director, Decommissioning and Uranium Recovery Licensing Directorate, Division of Waste Management and Environmental Protection, Office of Federal and State Materials and Environmental Management Programs.

[FR Doc. 2011-19876 Filed 8-4-11; 8:45 am]

BILLING CODE 7590-01-P